DEPARTMENT OF HEALTH AND HUMAN SERVICES

National Institutes of Health

Office of the Director; Notice of Meeting

Notice is hereby given of a meeting scheduled by the Deputy Director for Intramural Research at the National Institutes of Health (NIH) with the Chairpersons of the Boards of Scientific Counselors. The Boards of Scientific Counselors are advisory groups to the Scientific Directors of the Intramural Research Programs at the NIH. This meeting will take place on June 15, 2015, from 10:00 a.m. to 2:00 p.m., at the NIH, 1 Center Drive, Bethesda, MD 20892, Building 31, 6th Floor, Room 6. The agenda for the meeting is a discussion of policies and procedures that apply to the regular review of NIH intramural scientists and their work.

The meeting will be open to the public, with attendance limited to space available. Individuals who plan to attend and need special assistance, such as sign language interpretation or other reasonable accommodations, should contact Ms. Margaret McBurney at the Office of Intramural Research, NIH, Building 1, Room 160, Telephone: (301) 496-1921, FAX Number: (301) 402-4273, or email mmcburney@od.nih.gov in advance of the meeting.

In the interest of security, NIH has instituted stringent procedures for entrance onto the NIH campus. All visitor vehicles, including taxicabs, hotel and airport shuttles will be inspected before being allowed on campus. Visitors will be asked to show one form of identification (for example, a government-issued photo ID, driver's license, or passport) and to state the purpose of their visit.

Dated: May 12, 2015.
Anna Snouffer,
Deputy Director, Office of Federal Advisory Committee Policy.

[FR Doc. 2015-11822 Filed 5-15-15; 8:45 am]

BILLING CODE 4140-01-P